DEPARTMENT OF ENERGY

Federal Energy Regulatory Commission

[Docket No. IC25-6-000]

Commission Information Collection Activities (FERC Form No. 60, FERC-61, and FERC-555A); Consolidated Comment Request; Extension

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collections, FERC Form No. 60 (Annual Report of Centralized Service Companies), FERC-61 (Narrative Description of Service Company Functions), and FERC-555A (Preservation of Records Companies and Service Companies Subject to PUHCA).

DATES: Comments on the collection of information are due April 8, 2025.

ADDRESSES: You may submit comments (identified by Docket No. IC25-6-000) by any of the following methods:

Electronic filing through https://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: https://www.ferc.gov. For user assistance, contact FERC Online Support by email at: ferconlinesupport@ferc.gov, or by phone at: (866) 208-3676 (toll-free).

Docket: Users interested in receiving automatic notification of activity in this docket or in viewing/downloading comments and issuances in this docket may do so at: https://www.ferc.gov.

FOR FURTHER INFORMATION CONTACT: Kayla Williams may be reached by email at DataClearance@FERC.gov and telephone at (202) 502-8663.

SUPPLEMENTARY INFORMATION:

Type of Request: Three-year extension of the information collection requirements for FERC Form No. 60, FERC-61, and FERC-555A with no changes to the current reporting requirements.

OMB Control Nos. and Titles: 1902-0215 ((FERC Form No. 60 (Annual Report of Centralized Service Companies), FERC-61 (Narrative Description of Service Company Functions), and FERC-555A (Preservation of Records Companies and Service Companies Subject to PUHCA)).

Abstract: In accordance with the Energy Policy Act of 2005 (EPAct 2005), the Commission implemented the repeal of the Public Utility Holding Company Act of 1935 (PUHCA 1935) and implemented the provisions of a newly enacted Public Utility Holding Company Act 2005 (PUHCA 2005). Pursuant to PUHCA 2005, the Commission requires centralized service companies to file FERC Form No. 60 or FERC-61, and comply with FERC-555A's requirements unless the company is exempted or granted a waiver pursuant to the Commission's regulations. The information collected in FERC Form No. 60 enables better monitoring for cross-subsidization, and aids the Commission in carrying out its statutory responsibilities. In addition, centralized service companies are required to follow the Commission's preservation of records requirements for centralized service companies.

FERC Form No. 60

FERC Form No. 60 is an annual reporting requirement for centralized service companies set forth in 18 CFR 366.23. The report's function is to collect financial information (including balance sheet, assets, liabilities, billing and charges for associated and non-associated companies) from centralized service companies subject to the Commission's jurisdiction. Unless the Commission exempts or grants a waiver pursuant to 18 CFR 366.3 and 366.4 to the holding company system, every centralized service company in a holding company system must prepare and file electronically with the Commission the FERC Form No. 60, pursuant to the General Instructions in the form.

FERC-61

FERC-61 is a filing requirement for service companies in holding company systems (including special purpose companies) that are currently exempt or granted a waiver of FERC's regulations and would not have to file FERC Form No. 60. Instead, those service companies are required to file, on an annual basis, a narrative description of the service company's functions during the prior calendar year (FERC-61). In complying, a holding company may make a single filing on behalf of all of its service company subsidiaries.

FERC-555A

The Commission's regulations prescribe a mandated preservation of records requirement for holding companies and service companies (unless otherwise exempted by FERC). This requires them to maintain and make available to FERC, their books and records. The preservation of records requirement provides for uniform records retention by holding companies and centralized service companies subject to PUHCA 2005.

Data from FERC Form No. 60, FERC-61, and FERC-555A provide a level of transparency that: (1) helps protect ratepayers from pass-through of improper service company costs, (2) enables the Commission to review and determine cost allocations (among holding company members) for certain non-power goods and services, (3) aids the Commission in meeting its oversight and market monitoring obligations, and (4) benefits the public, both as ratepayers and investors. In addition, the Commission's audit staff uses these records during compliance audits, reviews and special analyses.

If data from FERC Form No. 60, FERC-61, and FERC-555A were not available, it would be difficult for the Commission to meet its statutory responsibilities under EPAct 1992, EPAct of 2005, and PUHCA 2005, and the Commission would have fewer of the regulatory mechanisms necessary to ensure transparency and protect ratepayers.

Type of Respondent: Centralized service companies.

Estimate of Annual Burden: ¹ The Commission estimates the annual public reporting burden and cost (rounded in the tables) for the information collections as: ²

¹ Burden is defined as the total time, effort, or financial resources expended by persons to generate, maintain, retain, disclose, or provide information to or for a Federal agency. For further explanation of what is included in the information collection burden, refer to 5 CFR 1320.3. The burden hours and costs are rounded for ease of presentation.

² The cost for the Form 60 and FERC-61 is based on FERC's 2024 Commission-wide average salary cost (salary plus benefits) of $100/hour. The Commission staff believes the FERC FTE (full-time equivalent) average cost for wages plus benefits is representative of the corresponding cost for the industry respondents.

For the FERC-555A, the $39.53 hourly cost figure comes from the average cost (wages plus benefits) of a file clerk (Occupation Code 43-4071) as posted on the BLS website (https://www.bls.gov/oes/current/naics2_22.htm).

FERC-60—Annual Burden Estimate
B. Number of respondents | C. Annual number of responses per respondent | D. Total number of responses | E. Average burden hours & cost per response | F. Total annual burden hours & cost | G. Cost per respondent
|  | (column B × column C) |  | (column D × column E) | (column F ÷ column B)
37 | 1 | 37 | 78 hrs.; $7,800 | 2,886 hrs.; $288,600 | $7,800

FERC-61—Annual Burden Estimate
B. Number of respondents | C. Annual number of responses per respondent | D. Total number of responses | E. Average burden hours & cost per response | F. Total annual burden hours & cost | G. Cost per respondent
|  | (column B × column C) |  | (column D × column E) | (column F ÷ column B)
14 ³ | 1 | 14 | 0.5 hrs.; $50 | 7 hrs.; $700 | $50

FERC-555A—Annual Burden Estimate
B. Number of respondents | C. Annual number of responses per respondent | D. Total number of responses | E. Average burden hours & cost per response | F. Total annual burden hours & cost | G. Cost per respondent
|  | (column B × column C) |  | (column D × column E) | (column F ÷ column B)
51 | 1 | 51 | 1,080 hrs.; $42,692.40 | 55,080 hrs.; $2,177,312.40 | $42,692.40

FERC-555A—Record Retention
| Total number of responses | Cost per respondent | Total annual cost
Electronic Storage | 51 | $10.00 | $510

Total Annual Cost: $2,468,472.40 [$288,600 (FERC Form No. 60) + $700 (FERC-61) + $2,177,312.40 (FERC-555A)] (Labor Cost) + $510 (Record Retention storage cost) = $2,468,472.40.]

³ Previously, the Commission estimated the number of FERC-61 respondents by including the potential for a holding company to file for a group of companies. In contrast, the current estimate is updated to instead reflect the actual number of filers filing the FERC-61, as opposed to the potential number of companies represented by the population of filers. The current approach is more precisee as it can be confirmed by reviewing the most recent number of FERC-61 filers. It is also consistent with the manner in which the number of respondents is estimated for other Commission collections. The varying corporate sizes and complexities inherent in the filing community is already taken into account via the burden hours estimate that is based on average filer burden.

A more granular breakdown of the FERC-60/61/555A cost categories follows:

Labor Cost: The total estimated annual cost for labor burden to respondents is $2,466,612.40 [$288,600 (FERC Form No. 60) + $700 (FERC-61) + $2,177,312.40 (FERC-555A)].

FERC Form No. 60: 37 respondents × $7,800 per respondent = $288,600.

FERC-61: 14 respondents × $50 per respondent = $700.

FERC-555A: 51 respondents × $42,692.40 per respondent = $2,177,312.40.

We expect the labor cost of FERC-555A record keeping to trend downward over time as companies move their records almost entirely to electronic record keeping and storage.

Storage Cost: ⁴ In addition to the FERC-555A labor (burden cost provided above), there are additional costs that represent record retention and storage costs. Previously, the estimate included paper storage costs, but firms no longer rely on paper storage to maintain the majority of their records, therefore the Commission is removing the costs for paper storage. For electronic storage, the Commission estimates $10.00 per respondent annually. Total annual electronic storage cost to industry ($10.00 × 51 respondents): $510. This calculation estimates storage of 1GB per year at $10.00. We expect that this estimate should continue to trend downward over time as the cost of electronic storage technology, including cloud storage, continues to decrease. For example, external hard drives of approximately 1,000 GB are available for approximately $75. In addition, cloud storage plans from multiple providers for 1TB of storage (with a reasonable amount of requests and data transfers) are available for less than $7 per month.

⁴ Internal analysis assumes 100% electronic storage.

Comments: Comments are invited on: (1) whether the collections of information are necessary for the proper performance of the functions of the Commission, including whether the information will have practical utility; (2) the accuracy of the agency's estimates of the burden and cost of the collections of information, including the validity of the methodology and assumptions used; (3) ways to enhance the quality, utility, and clarity of the information collections; and (4) ways to minimize the burden of the collections of information on those who are to respond, including the use of automated collection techniques or other forms of information technology.

Dated: January 27, 2025.
Debbie-Anne A. Reese,
Secretary.

[FR Doc. 2025-02357 Filed 2-6-25; 8:45 am]

BILLING CODE 6717-01-P